DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of May 2006.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance and Alternative Trade Adjustment Assistance

The following certifications have been issued; the date following the company name and location of each determination references the impact date for all workers of such determination.

The following certifications have been issued. The requirements of (a)(2)(A) (increased imports) of section 222 have been met, and section 246(a)(3)(A)(ii) of the Trade Act have been met.

TA-W-59,234; Frontier Spinning Mills, Formerly Know as Swift Galey, Also know as Swift Textiles, Yarn Plant, Columbus, GA: April 9, 2005

TA-W-59,277A; Thomasville Furniture Industries, Inc., Upholstery Plant 9, Hickory, NC: April 24, 2005

TA-W-59,277B; Thomasville Furniture Industries, Inc., Upholstery Plant 3, Troutman, NC: April 24, 2005

TA-W-59,415; WestPoint Home, Bed Products Division, Columbia, AL: May 16, 2005

TA-W-58,869; Teknetix, Inc., Parkersburg, WV: February 17, 2005

TA-W-59,127; Cridge, Inc., On-Site Leased Workers of Global Staffing, Staffing Visions of J.N., Fallsington, PA: March 22, 2005

TA-W-59,135; Bicor Processing Corp., Brooklyn, NY: March 22, 2005

TA-W-59,165; Georgia Pacific Corp., Fort James Operating Division, Pulp Mill, A Subsidiary of Koch Industries, Old Town, ME: April 4, 2005

TA-W-59,185; Roseburg Forest Products, Plywood Division, Dillard, OR: April 3, 2005

TA-W-59,190; FSP-One, Inc., Plainville, MA: April 11, 2005

TA-W-59,198; Tietex Interiors, A Division of Tietex, Williamsburg Plant, Gibsonville, NC: November 15, 2005

TA-W-59,203; LH Sewing Co., San Francisco, CA: April 12, 2005

TA-W-59,244; Convatec, A Division of E.R. Squibb and Sons, LLC, Greensboro, NC: April 19, 2005

The following certifications have been issued. The requirements of (a) (2) (B) (shift in production) of section 222 and section 246(a)(3)(A)(ii) of the Trade Act have been met.

TA-W-59,224; Lear Corporation, SSD Division, Elsie, MI: April 13, 2005

TA-W-59,245; Securitas Security Service, Inteir Automotive Seating of America, Inc., Romech Division, Red Oak, IA: April 18, 2005

TA-W-59,326; Dura Art Stone, Inc., Fontana, CA: May 3, 2005

TA-W-59,341; STERIS Corporation, Healthcare—Erie Operations Division, Erie, PA: May 4, 2005

TA-W-59,346; Sonoco Products Co., Flexible Packaging Division, Charlotte, NC: May 5, 2005

TA-W-59,353; Auburn Technology, Inc., A Subsidiary of Bombardier Transportation North America, Auburn, NY: May 5, 2005

TA-W-59,387; SKF USA Inc., Automotive Division, On-Site Leased Workers from Aiken Staffing Career, Graniteville, SC: May 3, 2005

TA-W-59,409; Components Manufacturing Co., A Subsidiary of Rheem Mfg Co., Augusta Warehouse, Augusta, GA: May 8, 2005

TA-W-59,216; Schindler Elevator Corp., Pete DeLuke & Assoc. & Manpower, Sidney, OH: April 13, 2005

TA-W-59,277; Thomasville Furniture Industries, Inc., Plant A, Thomasville, NC: April 24, 2005

TA-W-59,277C; Thomasville Furniture Industries, Inc., Plant D, Thomasville, NC: April 24, 2005

TA-W-59,284; Sound Advance Systems, Santa Ana, CA: April 26, 2005

TA-W-59,294; Dale's Cleaning Service, Working On-Site at OSRAM/Sylvania, Rockland, ME: April 7, 2005

TA-W-59,296; Synertech Health System Solutions, LL Sofware/Product Engineering Dept., Harrisburg, PA: April 17, 2005

TA-W-59,403; Picolight, Inc., Louisville, CO: May 16, 2005

The following certification has been issued. The requirement of supplier to a trade certified firm and section 246(a)(3)(A)(ii) of the Trade Act have been met.

TA-W-59,256; Caraustar Industries, Inc., Danville Plant, Blairs, VA: April 20, 2005

TA-W-59,325; Stanco Metal Products, Inc., On-Site Leased Workers of Kelly Services, Grand Haven, MI: April 27, 2005

The following certification has been issued. The requirement of downstream producer to a trade certified firm and Section 246(a)(3)(A)(ii) of the Trade Act have been met.

TA-W-59,263; A Bust Tool and Mfg. Co., Inc., dba Metal Manufacturing Co., Hammond, IN: April 21, 2005

Negative Determinations for Worker Adjustment Assistance

In the following cases, the investigation revealed that the criteria for eligibility have not been met for the reasons specified.

The investigation revealed that criterion (a)(2)(A)(I.A) and (a)(2)(B)(II.A) (no employment decline) has not been met.

TA-W-59,308; Michelin North America, Inc., Service V, Greenville, SC.

TA-W-59,315; Lear Corporation—Walker Plant, Seating Systems Division, Walker, MI.

The investigation revealed that criteria (a)(2)(A)(I.B.) (Sales or production, or both, did not decline) and (a)(2)(B)(II.B) (shift in production to a foreign country) have not been met.

TA-W-59,279; International Waxes, Inc., formerly Honeywell, Smethport, PA.

TA-W-59,285; Sony Technology Center Pittsburgh, A Subsidiary of Sony Electronics, SXRD Assembly, Mt. Pleasant, PA.

The investigation revealed that criteria (a)(2)(A)(I.C.) (increased imports) and (a)(2)(B)(II.B) (No shift in production to a foreign country) have not been met.

TA-W-58,841; Crossroads Systems, Inc., Austin, TX.

TA-W-59,243; Tenneco, Inc., OE/RC Sterling Heights Div., Sterling Heights, MI.

The investigation revealed that criteria (a)(2)(A)(I.C.) (Increased imports and (a)(2)(B)(II.C) (has shifted production to a foreign country) have not been met.

TA-W-59,180; Leading Technologies, Leechburg, PA.

TA-W-59,217; San Francisco City Lights, Inc., San Francisco, CA.

TA-W-59,303; South Mountain Technologies (USA), Inc., Wilsonville, OR.

The workers firm does not produce an article as required for certification under section 222 of the Trade Act of 1974.

TA-W-59,239; ReadyHosting, Inc., Kenosha, WI.

TA-W-59,253; Universal Manufacturing Corp., Shelby, NC.

TA-W-59,302; Information Systems Services, Working On-Site at Ford Motor Company, Dearborn, MI.

TA-W-59,345; Theramatrix Services, Working at Ford Motor Co., Atlanta Assembly Plant, Hapeville, GA.

TA-W-59,352; Town of Calhoun Falls, Calhoun Falls, SC.

The investigation revealed that criteria (2) has not been met. The workers firm (or subdivision) is not a supplier or downstream producer to trade-affected companies.

None

Affirmative Determinations for Alternative Trade Ajdustment Assistance

In order for the Division of Trade Adjustment Assistance to issued a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

Negative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-59,308; Michelin North America, Inc., Service V, Greenville, SC.

TA-W-59,315; Lear Corporation—Walker Plant, Seating Systems Division, Walker, MI.

TA-W-59,279; International Waxes, Inc., formerly Honeywell, Smethport, PA.

TA-W-59,285; Sony Technology Center Pittsburgh, A Subsidiary of Sony Electronics, SXRD Assembly, Mt. Pleasant, PA.

TA-W-58,841; Crossroads Systems, Inc., Austin, TX.

TA-W-59,243; Tenneco, Inc., OE/RC Sterling Heights Div., Sterling Heights, MI.

TA-W-59,180; Leading Technologies, Leechburg, PA.

TA-W-59,217; San Francisco City Lights, Inc., San Francisco, CA.

TA-W-59,303; South Mountain Technologies (USA), Inc., Wilsonville, OR.

TA-W-59,239; ReadyHosting, Inc., Kenosha, WI.

TA-W-59,253; Universal Manufacturing Corp., Shelby, NC.

TA-W-59,302; Information Systems Services, Working On-Site at Ford Motor Company, Dearborn, MI.

TA-W-59,345; Theramatrix Services, Working at Ford Motor Co., Atlanta Assembly Plant, Hapeville, GA.

TA-W-59,352; Town of Calhoun Falls, Calhoun Falls, SC.

The Department as determined that criterion (1) of Section 246 has not been met. Workers at the firm are 50 years of age or older.

None

The Department as determined that criterion (2) of Section 246 has not been met. Workers at the firm possess skills that are easily transferable.

TA-W-59,244; Convatec, A Division of E.R. Squibb and Sons, LLC, Greensboro, NC:

TA-W-59,326; Dura Art Stone, Inc., Fontana, CA:

TA-W-59,296; Synertech Health System Solutions, LLC, Sofware/Product Engineering Dept., Harrisburg, PA:

The Department as determined that criterion (3) of section 246 has not been met. Competition conditions within the workers' industry are not adverse.

None

I hereby certify that the aforementioned determinations were issued during the month of May 2006. Copies of these determinations are available for inspection in Room C-5311, U.S. Department of Labor, 200 Constitution Avenue, NW., Washington, DC 20210 during normal business hours or will be mailed to persons who write to the above address.

Dated: June 7, 2006.
Erica R. Cantor,
Director, Division of Trade Adjustment Assistance.

[FR Doc. E6-9901 Filed 6-21-06; 8:45 am]

BILLING CODE 4510-30-P